DEPARTMENT OF COMMERCE

Economic Development Administration (EDA), National Telecommunications and Information Administration (NTIA), Bureau of Industry and Security (BIS), Minority Business Development Agency (MBDA); Membership of the Performance Review Board for EDA, NTIA, BIS and MBDA

AGENCY: EDA, NTIA, BIS, and MBDA; Department of Commerce.

ACTION: Notice of membership on the EDA, NTIA, BIS and MBDA Performance Review Board.

SUMMARY: The EDA, NTIA, BIS and MBDA, Department of Commerce (DOC), announce the appointment of those individuals who have been selected to serve as members of the Performance Review Board. The Performance Review Board is responsible for reviewing performance appraisals and ratings of Senior Executive Service (SES) members and Senior Level (SL) members and making recommendations to the appointing authority on other performance management issues, such as pay adjustments and bonuses. The appointment of these members to the Performance Review Board will be for a period of twenty-four (24) months.

DATES: The period of appointment for those individuals selected for EDA, NTIA, BIS and MBDA Performance Review Board begins on October 7, 2022.

FOR FURTHER INFORMATION CONTACT: Christine Covington, U.S. Department of Commerce, Office of Human Resources Management, Office of Executive Resources, 14th and Constitution Avenue NW, Room 50021, Washington, DC 20230, at (202)482-2613.

SUPPLEMENTARY INFORMATION: In accordance with 5 U.S.C. 4314(c)(4), the EDA, NTIA, BIS, and MBDA, Department of Commerce (DOC), announce the appointment of those individuals who have been selected to serve as members of EDA, NTIA, BIS and MBDA Performance Review Board. The Performance Review Board is responsible for (1) reviewing performance appraisals and ratings of Senior Executive Service (SES) and Senior Level (SL) members and (2) making recommendations to the appointing authority on other Performance management issues, such as pay adjustments and bonuses for SES and SL members. The Appointment of these members to the Performance Review Board will be for a period of twenty-four (24) month.

The name, position title, and type of appointment of each member of the Performance Review Board are set forth below:

1. Department of Commerce, National Telecommunications and Information Administration (NTIA), First Responder Network Authority, Jeffrey Bratcher, Chief Technology Officer, Career SES

2. Department of Commerce, National Telecommunications and Information Administration (NTIA), Jaisha Wray, Associate Administrator, Office of International Affairs, Career SES

3. Department of Commerce, Economic Development Agency (EDA), Michele Chang, Deputy Assistant Secretary for Policy, Non-Career SES

4. Department of Commerce, National Telecommunications and Information Administration (NTIA), Stephanie Sykes, Senior Advisor, Non-Career SES

5. Department of Commerce, Economic Development Agency (EDA), Harry Phillip, Paradice Regional Director, Atlanta Regional Office, Career SES

6. Department of Commerce, Office of the Secretary (OS), Miguel L'Heureux, White House Liaison, Non-Career SES

7. Department of Commerce, Bureau of Industry and Security (BIS), Eileen Albanese, Director Office of National Security and Technology Transfer Controls, Career SES

8. Department of Commerce, National Telecommunications and Information Administration (NTIA), Steve Molina, Deputy Associate Administrator for Spectrum Management, Career SES

9. Department of Commerce, Bureau of Industry and Security (BIS), Karen H. Nies-Vogel Director, Office of Exporter Services, Career SES

10. Department of Commerce, National Telecommunications and Information Administration (NTIA), Douglas Kinkoph, Associate Administrator for Telecommunications and Information Applications, Career SES

11. Department of Commerce, National Telecommunications and Information Administration (NTIA), Philip Murphy, Senior Advisor, Non-Career SES

12. Department of Commerce, Economic Development Agency (EDA), Linda Cruz-Carnall, Philadelphia Regional Director, Career SES

13. Department of Commerce, National Telecommunications and Information Administration (NTIA), Kim Farington, Chief Financial and Administrative Officer, Career SES

Dated: September 30, 2022.
Christine Covington,
Human Resources Specialist, Office of Executive Resources, Office of Human Resources Management, Office of the Secretary, Department of Commerce.

[FR Doc. 2022-21616 Filed 10-6-22; 8:45 am]

BILLING CODE 3510-25-P